DEPARTMENT OF COMMERCE

International Trade Administration

[A-570-904]

Certain Activated Carbon From the People's Republic of China: Preliminary Results of Antidumping Duty Administrative Review; 2022-2023

AGENCY: Enforcement and Compliance, International Trade Administration, Department of Commerce.

SUMMARY: The U.S. Department of Commerce (Commerce) preliminarily finds that certain activated carbon (activated carbon) from the People's Republic of China (China) was sold in the United States at prices below normal value (NV) during the period of review (POR), April 1, 2022, through March 31, 2023. We invite interested parties to comment on these preliminary results of review.

DATES: Applicable May 2, 2024.

FOR FURTHER INFORMATION CONTACT: Andrew Hart or Katie Smith, AD/CVD Operations, Office II, Enforcement and Compliance, International Trade Administration, U.S. Department of Commerce, 1401 Constitution Avenue NW, Washington, DC 20230; telephone: (202) 482-1058 or (202) 482-0557, respectively.

SUPPLEMENTARY INFORMATION:

Background

On April 27, 2007, Commerce published in the Federal Register the antidumping duty (AD) order on activated carbon from China.¹ On April 4, 2023, Commerce published in the Federal Register a notice of opportunity to request an administrative review of the Order, covering the POR, pursuant to section 751(a)(1) of the Tariff Act of 1930, as amended (the Act).² On June 12, 2023, based on timely requests for review from certain interested parties,³ Commerce initiated an administrative review of the Order covering the POR.⁴ The administrative review covers 20 companies including the two mandatory respondents, Jilin Bright Future Chemicals Co., Ltd. (Jilin Bright) and Ningxia Guanghua Cherishment Activated Carbon Co., Ltd. (GHC). On December 6, 2023, Commerce extended the deadline for the preliminary results of this review until April 26, 2024.⁵

¹ See Notice of Antidumping and Countervailing Duty Order: Certain Activated Carbon from the People's Republic of China: Antidumping and Countervailing Duty Orders, 72 FR 20988 (April 27, 2007) (Order).

² See Antidumping or Countervailing Duty Order, Finding, or Suspended Investigation; Opportunity to Request Administrative Review and Join Annual Inquiry Service List, 88 FR 199616 (April 4, 2023).

³ See Carbon Activated Tianjin Co., Ltd. (CA Tianjin)'s Letter, “Request for Antidumping Administrative Review,” dated April 26, 2023; see also, Ningxia Huahui Environmental Technology Co., Ltd. (Huahui)'s Letter, “Request for Administrative Review,” dated April 27, 2023; Ningxia Mineral & Chemical Limited (Ningxia Minerals)'s Letter, “Request for Administrative Review,” dated April 27, 2023; Tancarb Activated Carbon Co., Ltd.'s Letter (Tancarb), “Request for Administrative Review,” dated April 27, 2023; Calgon Carbon Corporation and Norit Americas Inc. (the petitioners)'s Letter, “Petitioners' Request for Initiation of 16th Annual Administrative Review,” dated April 28, 2023; Shanxi Sincere Industrial Co., Ltd. (Shanxi Sincere)'s and Tianjin Channel Filters Co., Ltd. (Tianjin Channel Filters)'s Letter, “Request for Administrative Review,” dated April 28, 2023; Jacobi Carbons Tianjin International Trade Co., Ltd., and Jacobi Absorbent Materials Co., Ltd. (collectively, Jacobi Carbons AB and Affiliates)' Letter, “Jacobi's Request for Administrative Review,” dated April 28, 2023 (We also received a review request for Jacobi Carbons, Inc.; however, Jacobi Carbons, Inc. is a U.S. affiliate of Jacobi Carbons AB as such, this company was not included in the Initiation Notice); Datong Hongdi Carbon Co., Ltd. (Datong Hongdi)'s Letter, “AD Request for Review,” dated April 28, 2023; Bengbu Modern Environmental Co., Ltd. (Bengbu)'s Letter, ” AD Request for Review,” dated April 28, 2023; Jilin Bright Future Chemicals Co., Ltd. (Jilin Bright)'s Letter, “Request for Administrative Review,” dated May 1, 2023; Datong Juqiang Activated Carbon Co., Ltd. (Datong Juqiang)'s, Ningxia Guanghua Cherishmet Activated Carbon Co., Ltd. (GHC)'s, Datong Municipal Yunguang Activated Carbon Co., Ltd. (Datong Municipal)'s, and Shanxi Industry Technology Trading Co., Ltd. (Shanxi Industry)'s Letter, “Request for Antidumping Administrative Review,” dated May 1, 2023; and Petitioners' Letter, “Supplement to Petitioners' Request for Initiation of 16th Annual Administrative Review,” dated May 1, 2023.

⁴ See Initiation of Antidumping and Countervailing Duty Administrative Reviews, 88 FR 38021 (June 12, 2023) (Initiation Notice).

⁵ See Memorandum, “Extension of Deadline for Preliminary Results of Antidumping Duty Administrative Review,” dated December 6, 2023.

Scope of the Order

The product covered by the Order is activated carbon from China. For a full description of the scope of the Order, see the Preliminary Decision Memorandum.⁶

⁶ See Memorandum, “Decision Memorandum for the Preliminary Results of the 2022-2023 Administrative Review of the Antidumping Duty Order on Certain Activated Carbon from the People's Republic of China,” dated concurrently with, and hereby adopted by, this notice (Preliminary Decision Memorandum).

Separate Rates

Commerce preliminarily determines that Jilin Bright and GHC, the companies individually examined in this review, and the 12 companies, not individually examined and listed in Appendix II to this notice, are eligible to receive separate rates in this administrative review.⁷

⁷ See Appendix II; see also Preliminary Decision Memorandum at “Separate Rate Recipients” section.

The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. Section 735(c)(5)(A) of the Act states that the all-others rate should be calculated by averaging the weighted-average dumping margins calculated for individually-examined respondents, excluding dumping margins that are zero, de minimis, or based entirely on facts available.

For the preliminary results of this review, Commerce determined the estimated dumping margins for Jilin Bright and GHC are $2.01/kg and $1.17/kg respectively. For the reasons explained in the Preliminary Decision Memorandum, we are assigning to the 12 non-examined respondents which qualify for a separate rate in this review, an estimated dumping margin of $1.43/kg, consistent with Commerce's practice and section 735(c)(5)(A) of the Act.

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., $2.42/kilogram) is not subject to change.⁹ For the reasons explained in the Preliminary Decision Memorandum, Commerce considers certain companies for which a review was requested and which did not demonstrate separate rate eligibility, listed in Appendix II to this notice, to be part of the China-wide entity.¹⁰

⁸ See Antidumping Proceedings: Announcement of Change in Department Practice for Respondent Selection in Antidumping Duty Proceedings and Conditional Review of the Nonmarket Economy Entity in NME Antidumping Duty Proceedings, 78 FR 65963 (November 4, 2013).

⁹ See Order.

¹⁰ See Appendix II for the list of companies that are subject to this administrative review that are considered to be part of the China-wide entity.

Methodology

Commerce is conducting this review in accordance with section 751(a)(1)(B) of the Act. We calculated export price in accordance with section 772 of the Act. Because China is a non-market economy country within the meaning of section 771(18) of the Act, we calculated NV in accordance with section 773(c) of the Act.

For a full description of the methodology underlying our preliminary results, see the Preliminary Decision Memorandum.¹¹ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹¹ See Preliminary Decision Memorandum at “Discussion of the Methodology” section.

Preliminary Results of Review

For companies that established their eligibility for a separate rate,¹² Commerce preliminarily determines that the following estimated weighted-average dumping margins exist for the period April 1, 2022, through March 31, 2023: ¹³

¹² See Preliminary Decision Memorandum

¹³ See Appendix II for the list of companies under review receiving a separate rate.

Exporter | Weighted-average dumping margin (U.S. dollars per kilogram) ¹⁴
Jilin Bright Future Chemicals Co., Ltd. | 2.01
Ningxia Guanghua Cherishmet Activated Carbon Co., Ltd. | 1.17
Review-Specific Rate Applicable For Non-Selected Companies Under Review ¹⁵ | 1.43

Disclosure and Public Comment

¹⁴ In the second administrative review of the Order, Commerce determined that it would calculate per-unit weighted-average dumping margins and assessment amounts for all future reviews. See Certain Activated Carbon from the People's Republic of China: Final Results and Partial Rescission of Second Antidumping Duty Administrative Review, 75 FR 70208, 70211 (November 17, 2010).

¹⁵ See Appendix II.

Commerce intends to disclose the calculations performed for these preliminary results to interested parties within five days after public announcement, or if there is no public announcement, within five days of the date of publication of this notice in the Federal Register.¹⁶

¹⁶ See 19 CFR 351.224(b).

Pursuant to 19 CFR 351.309(c), interested parties may submit case briefs to Commerce no later than 30 days after the date of publication of this notice.¹⁷ Rebuttal briefs, limited to issues raised in the case briefs, may be filed no later than five days after the date for filing case briefs.¹⁸ Interested parties who submit case briefs or rebuttal briefs in this proceeding must submit: (1) a table of contents listing each issue; and (2) a table of authorities.¹⁹

¹⁷ See 19 CFR 351.303 (for general filing requirements).

¹⁸ See 19 CFR 351.309(d); see also Administrative Protective Order, Service, and Other Procedures in Antidumping and Countervailing Duty Proceedings, 88 FR 67069, 67077 (September 29, 2023) (APO and Service Final Rule).

¹⁹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁰ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²¹

²⁰ We use the term “issue” here to describe an argument that Commerce would normally address in a comment of the Issues and Decision Memorandum.

²¹ See APO and Service Final Rule, 88 FR at 67077.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice. If a request for a hearing is made, Commerce intends to hold a hearing at a time and date to be determined.²² Parties should confirm the date, time, and location of the hearing two days before the scheduled date.

²² See 19 CFR 351.310(d).

All submissions, including case and rebuttal briefs, as well as hearing requests, should be filed using ACCESS.²³ An electronically-filed document must be received successfully in its entirety by ACCESS by 5:00 p.m. Eastern Time on the established deadline.

²³ See 19 CFR 351.303.

Assessment Rates

In accordance with section 751(a)(2)(C) of the Act, the final results of this review shall be the basis for the assessment of antidumping duties on entries of merchandise covered by this review. Upon completion of the final results, Commerce shall determine, and U.S. Customs and Border Protection (CBP) shall assess, antidumping duties on all appropriate entries covered by this review.²⁴

²⁴ See 19 CFR 351.212(b)(1).

If the individually examined respondents' weighted-average dumping margins are above de minimis (i.e., 0.50 percent) in the final results of this review, we will calculate importer-specific per-unit assessment rates for each respondent by dividing the total amount of dumping calculated for examined sales to the importer or customer by the total sales quantity associated with those transactions. Where an importer-specific or customer-specific assessment rate is zero or de minimis, we will instruct CBP to liquidate the appropriate entries without regard to antidumping duties.

For entries that were not reported in the U.S. sales database submitted by each mandatory respondent individually examined during this review, Commerce will instruct CBP to liquidate such entries at the China-wide rate.²⁵

²⁵ For a full discussion of this practice, see Non-Market Economy Antidumping Proceedings: Assessment of Antidumping Duties, 76 FR 65694 (October 24, 2011).

For the respondents that were not selected for individual examination in this administrative review but qualified for a separate rate, the per unit assessment rate will be the rate established for these companies in the final results of review.

For the final results of this review, if we continue to treat the six companies identified in Appendix II to this notice as part of the China-wide entity, we will instruct CBP to apply the China-wide per-unit assessment rate to all entries of subject merchandise during the POR which were exported by those companies.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise from China entered, or withdrawn from warehouse, for consumption on or after the publication date, as provided for by section 751(a)(2)(C) of the Act: (1) for the subject merchandise exported by the companies listed above that have a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Notification to Importers

This notice also serves as a reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results of review in accordance with sections 751(a)(l) and 777(i)(l) of the Act, and 19 CFR 351.213 and 19 CFR 351.221(b)(4).

Dated: April 26, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of Methodology

V. Currency Conversion

VI. Recommendation

Appendix II

Review-Specific Rate Applicable for Non-Selected Companies Under Review

1. Bengbu Modern Environmental Co., Ltd.

2. Carbon Activated Tianjin Co., Ltd.

3. Datong Hongdi Carbon Co., Ltd.

4. Datong Juqiang Activated Carbon Co., Ltd.

5. Datong Municipal Yunguang Activated Carbon Co., Ltd.

6. Jacobi Carbons AB; Jacobi Carbons Industry (Tianjin) Co., Ltd.; Tianjin Jacobi International Trading Co. Ltd.; Jacobi Adsorbent Materials

7. Ningxia Huahui Environmental Technology Co., Ltd.

8. Ningxia Mineral & Chemical Limited

9. Shanxi Industry Technology Trading Co., Ltd.

10. Shanxi Sincere Industrial Co., Ltd.

11. Tancarb Activated Carbon Co., Ltd.

12. Tianjin Channel Filters Co., Ltd.

Companies Considered To Be Part of the China-Wide Entity

1. Beijing Pacific Activated Carbon Products Co., Ltd.

2. Shanxi Dapu International Trade Co., Ltd.

3. Shanxi DMD Corp.

4. Shanxi Tianxi Purification Filter Co., Ltd.

5. Sinoacarbon International Trading Co., Ltd.

6. Tianjin Maijin Industries Co., Ltd.

[FR Doc. 2024-09582 Filed 5-1-24; 8:45 am]

BILLING CODE 3510-DS-P